DEPARTMENT OF THE INTERIOR

Bureau of Land Management

[LLWO35000.L14300000.ES0000]

Renewal of Approved Information Collection; OMB Control No. 1004-0012

AGENCY: Bureau of Land Management, Interior.

ACTION: 60-day notice and request for comments.

SUMMARY: In compliance with the Paperwork Reduction Act, the Bureau of Land Management (BLM) invites public comments on, and plans to request approval to continue, the collection of information from applicants for land for recreation or public purposes. The Office of Management and Budget (OMB) has assigned control number 1004-0012 to this information collection.

DATES: Submit comments on the proposed information collection by August 13, 2012.

ADDRESSES: Comments may be submitted by mail, fax, or electronic mail.

Mail: U.S. Department of the Interior, Bureau of Land Management, 1849 C Street, NW., Room 2134LM, Attention: Jean Sonneman, Washington, DC 20240.

Fax: to Jean Sonneman at 202-245-0050.

Electronic mail: Jean_Sonneman@blm.gov.

Please indicate “Attn: 1004-0012” regardless of the form of your comments.

FOR FURTHER INFORMATION CONTACT: Jeff Holdren at 202-912-7335. Persons who use a telecommunication device for the deaf (TDD) may call the Federal Information Relay Service (FIRS) at 1-800-877-8339, to leave a message for Mr. Holdren.

SUPPLEMENTARY INFORMATION: OMB regulations at 5 CFR 1320, which implement provisions of the Paperwork Reduction Act, 44 U.S.C. 3501-3521, require that interested members of the public and affected agencies be given an opportunity to comment on information collection and recordkeeping activities (see 5 CFR 1320.8 (d) and 1320.12(a)). This notice identifies an information collection that the BLM plans to submit to OMB for approval. The Paperwork Reduction Act provides that an agency may not conduct or sponsor a collection of information unless it displays a currently valid OMB control number. Until OMB approves a collection of information, you are not obligated to respond.

The BLM will request a 3-year term of approval for this information collection activity. Comments are invited on: (1) The need for the collection of information for the performance of the functions of the agency; (2) the accuracy of the agency's burden estimates; (3) ways to enhance the quality, utility and clarity of the information collection; and (4) ways to minimize the information collection burden on respondents, such as use of automated means of collection of the information. A summary of the public comments will accompany our submission of the information collection requests to OMB.

The following information is provided for the information collection:

Title: Application for Land for Recreation or Public Purposes (43 CFR 2740 and 2912).

Forms:

• Form 2740-1, Application for Land for Recreation or Public Purposes.

OMB Control Number: 1004-0012.

Abstract: The Bureau of Land Management (BLM) uses the information collection to decide whether or not to lease or sell certain public lands to applicants under the Recreation and Purposes Act, 43 U.S.C. 869 to 869-4. The Act authorizes the Secretary of the Interior to lease or sell, for recreational or public purposes, certain public lands to State, Territory, county, and local governments; nonprofit corporations; and nonprofit associations.

Frequency of Collection: Once.

Estimated Number and Description of Respondents Annually: 21 State, Territory, country and local governments; 1 nonprofit association; and 1 nonprofit corporation.

Estimated Reporting and Recordkeeping “Hour” Burden Annually: 920 hours (40 hours per application).

Estimated Reporting and Recordkeeping “Non-Hour Cost” Burden Annually: $2,300 ($100 per application).

Before including your address, phone number, email address, or other personal identifying information in your comment, you should be aware that your entire comment—including your personal identifying information—may be made publicly available at any time. While you can ask us in your comment to withhold your personal identifying information from public review, we cannot guarantee that we will be able to do so.

Jean Sonneman,
Bureau of Land Management, Information Collection Clearance Officer.

[FR Doc. 2012-14375 Filed 6-12-12; 8:45 am]

BILLING CODE 4310-84-P